ELECTION ASSISTANCE COMMISSION

Publication of State Plans Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to HAVA State plans previously submitted by Oklahoma, South Dakota, and Texas.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual States at the address listed below.

SUPPLEMENTARY INFORMATION: On March 24, 2004, the U.S. Election Assistance Commission published in the Federal Register the original HAVA State plans filed by the 50 States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates.

The submissions from Oklahoma, South Dakota and Texas address material changes in the administration of their original State plans and, in accordance with HAVA section 254(a)(12), provide information on how the State succeeded in carrying out the previous State plan. Among other matters, South Dakota and Texas are submitting changes that address the HAVA requirements payment allocated to the State in Fiscal Year 2004, a prerequisite for the States to receive these funds. Oklahoma had previously addressed the use of such funds and appears to be making no material changes to that use. (Oklahoma has received its 2003 and 2004 requirements payments. Texas has received its 2003 requirements payment. South Dakota's certification for its 2003 requirements payment is pending.)

Upon the expiration of 30 days from March 11, 2005, these States will be eligible to implement any material changes addressed in the plans that are published herein, in accordance with HAVA section 254(a)(11)(C). At that time, in accordance with HAVA section 253(d), South Dakota and Texas also may file a statement of certification to obtain the fiscal year 2004 requirements payments. These statements of certification must confirm that the State is in compliance with all of the requirements referred to in HAVA section 253(b) and must be provided to the Election Assistance Commission in order for the State to receive a requirements payment under HAVA Title II, Subtitle D.

EAC notes that plans published herein include only those that have already met the notice and comment requirements of HAVA section 256, as required by HAVA section 254(a)(11)(B). EAC wishes to acknowledge the effort that went into revising the State plans and encourages further public comment, in writing, to the chief election official of the individual States at the address listed below.

Chief State Election Officials

Oklahoma

The Honorable Michael Clingman, Secretary, State Election Board, P.O. Box 53158, Oklahoma City, Oklahoma 73152, Phone: 405/521-2391, Fax: 405/521-6457, E-mail: elections@oklaosf.state.ok.us.

South Dakota

The Honorable Chris Nelson, Secretary of State, State Capitol Bldg., Ste 204, 500 E Capitol, Pierre, South Dakota 57501-5070, Phone: 605/773-3537, Fax: 605/773-6580, E-mail: sdsos@state.sd.us.

Texas

The Honorable Roger Williams, Secretary of State, P.O. Box 12887, Austin, Texas 78711-2887, Phone: 512/463-5770, Fax: 512/475-2761, E-mail: secretary@sos.state.tx.us.

Thank you for your interest in improving the voting process in America.

Dated: March 4, 2005.
Gracia M. Hillman,
Chair, U.S. Election Assistance Commission.

BILLING CODE 6820-YN-P

[FR Doc. 05-4772 Filed 3-10-05; 8:45 am]

BILLING CODE 6820-YN-C